DEPARTMENT OF ENERGY

Federal Energy Regulatory Commission

[Docket No. PR03-11-000]

Enbridge Pipelines (Louisiana Intrastate) L.L.C.; Notice of Extension of Time

April 16, 2003.

On April 10, 2003, Enbridge Pipelines (Louisiana Intrastate) L.L.C. (Louisiana Intrastate) filed a motion for an extension of time for the filing of comments, protests, and interventions, in the above-docketed proceeding. The proceeding concerns a Louisiana Intrastate petition for rate approval under Section 311 of the Natural Gas Act and the Commission's rules. The petition was filed on March 19, 2003. Louisiana Intrastate's current motion for extension of time states that certain cost information contained in that filing was incorrect or incomplete and that an amendment containing new information will be filed that will supercede the petition currently on file. The motion also states that requiring parties to review and respond to a flawed and incomplete filing would be a waste of resources. Further, the motion states that an extension of time will allow for a more efficient administration of this proceeding.

Upon consideration, notice is hereby given that the extension of time for filing comments, interventions, or protests is granted. The new deadline for the filing of comments, interventions, or protests will be established in a subsequent Notice of Revised Filing to be issued when Louisiana Intrastate amends its March 19, 2003 filing.

Magalie R. Salas,
Secretary.

[FR Doc. 03-9901 Filed 4-21-03; 8:45 am]

BILLING CODE 6717-01-P